INTERNATIONAL TRADE COMMISSION

[USITC SE-03-016]

Sunshine Act Meeting

Agency Holding the Meeting: International Trade Commission.

Time and Date: June 12, 2003 at 11 a.m.

Place: Room 101, 500 E Street SW., Washington, DC 20436, Telephone: (202) 205-2000.

Status: Open to the public.

Matters to be Considered: 1. Agenda for future meetings: none.

2. Minutes.

3. Ratification List.

4. Inv. No. 731-TA-1013 (Final)(Saccharin from China)—briefing and vote. (The Commission is currently scheduled to transmit its determination and Commissioners' opinions to the Secretary of Commerce on or before June 25, 2003.)

5. Outstanding action jackets: none.

In accordance with Commission policy, subject matter listed above, not disposed of at the scheduled meeting, may be carried over to the agenda of the following meeting.

By order of the Commission.
Issued: June 2, 2003.
Marilyn R. Abbott,
Secretary to the Commission.

[FR Doc. 03-14333 Filed 6-3-03; 2:15 pm]

BILLING CODE 7020-02-P